DEPARTMENT OF TRANSPORTATION

Federal Highway Administration

Environmental Impact Statement: Proposed Improvements to State Route 126 (Memorial Boulevard) From East Center Street in Kingsport, to Interstate 81, Sullivan County, TN

AGENCY: Federal Highway Administration (FHWA), DOT.

ACTION: Notice of intent.

SUMMARY: The Federal Highway Administration (FHWA) is issuing this notice to advise the public that an Environmental Impact Statement (EIS) will be prepared for a proposed highway project in Sullivan County, Tennessee.

FOR FURTHER INFORMATION CONTACT: Mr. Charles J. O'Neill, Planning and Program Management Team Leader, Federal Highway Administration—Tennessee Division Office, 640 Grassmere Park Road, Suite 112, Nashville, TN 37211. 615-781-5772.

SUPPLEMENTARY INFORMATION: The FHWA in cooperation with the Tennessee Department of Transportation will prepare an Environmental Impact Statement (EIS) on a proposal to improve State Route 126, also known as Memorial Boulevard, from East Center Street in Kingsport to Interstate 81, for a distance of approximately 8.4 miles.

Alternatives to be considered include: (1) No-build; (2) a Transportation System Management (TSM) alternative (3) one or more build alternatives that could include constructing portions of the roadway on new location, upgrading existing SR 126, or a combination of both, and (4) other alternatives that might arise from public input. Public scoping meetings have been conducted for the project corridor. As part of the scoping process, federal, state, and local agencies and officials; private organizations; citizens; and interest groups met to identify issues of concern and provide input on the purpose and need for the project, range of alternatives, methodology, and the development of the Environmental Impact Statement. A Coordination Plan will be developed to include the public in the project development process. The plan will utilize the following outreach efforts to provide information and solicit input: newsletters, an internet Web site, e-mail and direct mail, informational meetings and briefings, public hearings, and other efforts as necessary and appropriate. A public hearing will be held upon completion of the Draft Environmental Impact Statement, and public notice will be given of the time and place of the hearing. The Draft EIS will be available for public and agency review and comment prior to the public hearing.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program).

Charles J. O'Neill,
Planning and Program Mgmt. Team Leader Nashville, TN.

[FR Doc. E8-27920 Filed 11-24-08; 8:45 am]

BILLING CODE 4910-22-P